DEPARTMENT OF ENERGY

Federal Energy Regulatory Commission

Combined Notice of Filings

Take notice that the Commission has received the following Natural Gas Pipeline Rate and Refund Report filings:

Filings Instituting Proceedings

Docket Number: PR16-47-000.

Applicants: Public Service Company of Colorado.

Description: Tariff filing per 284.123(e)/.224: 20160415_PSCo Gas Tariff Cancellation to be effective 4/15/2016; Filing Type: 800.

Filed Date: 4/15/2016.

Accession Number: 201604155183.

Comments/Protests Due: 5 p.m. ET 5/6/16.

Docket Number: PR16-48-000.

Applicants: ONEOK WesTex Transmission, L.L.C.

Description: Tariff filing per 284.123(b)(1) + (g): Petition for Approval of Firm Transportation Service Rate under NGPA Section 311 to be effective 4/1/2016; Filing Type: 1300.

Filed Date: 4/15/2016.

Accession Number: 201604155222.

Comments Due: 5 p.m. ET 5/6/16.

284.123(g) Protests Due: 5 p.m. ET 6/14/16.

Docket Number: PR16-49-000.

Applicants: ONEOK WesTex Transmission, L.L.C.

Description: Tariff filing per 284.123(b)(1) + (g): Petition for Approval of Interruptible Transportation Service Rate to be effective 5/1/2016; Filing Type: 1300.

Filed Date: 4/15/2016.

Accession Number: 201604155249.

Comments Due: 5 p.m. ET 5/6/16.

284.123(g) Protests Due: 5 p.m. ET 6/14/16.

Docket Numbers: RP16-859-000.

Applicants: Transcontinental Gas Pipe Line Company.

Description: § 4(d) Rate Filing: SS-2 Inventory Adjustment Filing (2016) to be effective 5/1/2016.

Filed Date: 4/19/16.

Accession Number: 20160419-5036.

Comments Due: 5 p.m. ET 5/2/16.

Docket Numbers: RP16-860-000.

Applicants: Pine Prairie Energy Center, LLC.

Description: § 4(d) Rate Filing: Pine Prairie Energy Center, LLC—Filing of Tariff Changes to be effective 5/19/2016.

Filed Date: 4/19/16.

Accession Number: 20160419-5067.

Comments Due: 5 p.m. ET 5/2/16.

Docket Numbers: RP16-861-000.

Applicants: Bluewater Gas Storage, LLC.

Description: § 4(d) Rate Filing: Bluewater Gas Storage, LLC—Filing of Tariff Changes to be effective 5/19/2016.

Filed Date: 4/19/16.

Accession Number: 20160419-5070.

Comments Due: 5 p.m. ET 5/2/16.

Docket Numbers: RP16-862-000.

Applicants: Texas Eastern Transmission, LP.

Description: § 4(d) Rate Filing: Apr2016 Negotiated Rate and Non-conforming Agreements Cleanup to be effective 5/20/2016.

Filed Date: 4/20/16.

Accession Number: 20160420-5045.

Comments Due: 5 p.m. ET 5/2/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-442-001.

Applicants: Honeoye Storage Corporation.

Description: Compliance filing April 2016 Adoption of NAESB Version 3.0 Amended to be effective 4/1/2016.

Filed Date: 4/15/16.

Accession Number: 20160415-5139.

Comments Due: 5 p.m. ET 4/27/16.

Docket Numbers: RP16-521-001.

Applicants: MIGC LLC.

Description: Compliance filing NAESB V3.0 April 18 Compliance to be effective 4/1/2016.

Filed Date: 4/19/16.

Accession Number: 20160419-5079.

Comments Due: 5 p.m. ET 5/2/16.

Docket Numbers: RP16-556-001.

Applicants: Freebird Gas Storage, L.L.C.

Description: Compliance filing Freebird Gas Storage, L.L.C., Compliance Filing, Docket No. RP16-556-001 to be effective 4/1/2016.

Filed Date: 4/19/16.

Accession Number: 20160419-5077.

Comments Due: 5 p.m. ET 5/2/16.

Docket Numbers: RP16-557-001.

Applicants: Caledonia Energy Partners, L.L.C.

Description: Compliance filing Caledonia Energy Partners, L.L.C., Compliance Filing, Docket No. RP16-557-001 to be effective 4/1/2016.

Filed Date: 4/19/16.

Accession Number: 20160419-5076.

Comments Due: 5 p.m. ET 5/2/16.

Docket Numbers: RP16-729-001.

Applicants: Transcontinental Gas Pipe Line Company.

Description: Compliance filing GT&C Section 49—Available Firm Capacity Posting Procedure—Compliance Filg to be effective 4/18/2016.

Filed Date: 4/19/16.

Accession Number: 20160419-5125.

Comments Due: 5 p.m. ET 5/2/16.

Docket Numbers: RP15-1237-001.

Applicants: Venice Gathering System, L.L.C.

Description: Report Filing: Updated Statements.

Filed Date: 4/20/16.

Accession Number: 20160420-5133.

Comments Due: 5 p.m. ET 5/2/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2016.
Nathaniel J. Davis, Sr.,
Deputy Secretary.

[FR Doc. 2016-10023 Filed 4-28-16; 8:45 am]

BILLING CODE 6717-01-P